DEPARTMENT OF THE INTERIOR

Bureau of Land Management

[LLAKA01000. L16100000. DQ0000. LXSI086L0000]

Notice of Intent To Prepare Ring of Fire Resource Management Plan Amendment and Supplemental Environmental Impact Statement, Alaska

AGENCY: Bureau of Land Management, Interior.

ACTION: Notice of intent.

SUMMARY: The Bureau of Land Management (BLM) Anchorage Field Office, Anchorage, Alaska, intends to prepare a Resource Management Plan (RMP) Amendment with an associated Supplemental Environmental Impact Statement (EIS) for the Haines planning block of the Ring of Fire RMP and by this notice is announcing the beginning of the public scoping process.

DATES: The BLM will announce public scoping meetings in Anchorage, Haines, and Skagway, Alaska through local news media, newsletters, and the BLM Web site (http://www.blm.gov/ak) at least 15 days prior to each meeting. We will provide formal opportunities for public comment upon publication of the Draft RMP Amendment and Supplemental EIS, including a 90-day public comment period. Please submit your comments on or before June 24, 2009.

ADDRESSES: You may submit comments by any of the following methods:

• Web Site: http://www.blm.gov/ak.

• E-Mail: ak_rof_amend@blm.gov.

• Fax: (907) 267-1267.

• Mail: BLM-Anchorage Field Office, Attention—Ring of Fire Amendment, 4700 BLM Road, Anchorage, AK 99507.

Documents pertinent to this proposal may be examined at the Anchorage Field Office, 4700 BLM Road, Anchorage, AK 99507.

FOR FURTHER INFORMATION CONTACT: For information and/or to have your name added to the mail list, contact Beth Maclean, Ring of Fire Amendment Team Leader, (beth_maclean@blm.gov) at (907) 267-1214.

SUPPLEMENTARY INFORMATION: This document provides notice that the BLM Anchorage Field Office, Anchorage, Alaska, intends to prepare an RMP Amendment with an associated Supplemental EIS for the Haines planning block of the Ring of Fire RMP and announces the beginning of the public scoping process.

The planning area is located in southeast Alaska. Bound by the Canadian border to the north and east and the Haines Borough boundary to the south and west, the planning area encompasses the towns of Haines and Skagway. This planning activity encompasses approximately 320,000 acres of public land. The plan will fulfill the needs and obligations set forth by the National Environmental Policy Act (NEPA), the Federal Land Policy and Management Act (FLPMA), and BLM management policies. The BLM will work collaboratively with interested parties to identify the management decisions that are best suited to local, regional, and national needs and concerns.

The purpose of the public scoping process and public scoping meetings is to identify relevant issues that will influence the scope of the environmental analysis and Supplemental EIS alternatives. These issues also guide the planning process. You may submit comments on issues and planning criteria in writing to the BLM at any public scoping meeting, or you may submit them to the BLM using one of the methods listed in the ADDRESSES section above. Before including your address, phone number, e-mail address, or other personal identifying information in your comment, you should be aware that your entire comment—including your personal identifying information—may be made publicly available at any time. While you can ask us in your comment to withhold your personal identifying information from public review, we cannot guarantee that we will be able to do so.

Preliminary issues and management concerns identified by BLM personnel, other agencies, and individuals and user groups represent the BLM's knowledge to date regarding existing issues and concerns with current land management. The major issue that will be addressed in this planning effort relates to potential impacts on wildlife populations from recreation activities occurring on BLM-managed lands in the Haines Block.

The BLM will analyze the following decisions through the RMP Amendment and Supplemental EIS:

• Whether to designate any of the Haines Block lands as an Area of Critical Environmental Concern (ACEC),

• Whether to retain the Haines Block Special Recreation Management Area (SRMA) designation, and

• What terms and conditions for special recreation permits in the Haines Block lands should be developed.

If the Haines Block SRMA designation is retained, the BLM, through the RMP Amendment and Supplemental EIS, will:

• Decide whether to change the boundaries of the SRMA,

• Make SRMA decisions as outlined in the Appendix C of the H-1601-1 Land Use Planning Handbook, and

• Develop a Special Recreation Management Plan (SRMP) for the Haines Block SRMA.

The BLM will evaluate the identified issues to be addressed in the plan and will place them into one of three categories:

1. Issues to be resolved in the plan,

2. Issues to be resolved through policy or administrative action, or

3. Issues beyond the scope of this plan.

The BLM will explain in the plan why an issue was placed in category two or three. In addition to these major issues, a number of management questions and concerns will be addressed in the plan. The public is encouraged to help identify these questions and concerns during the scoping phase.

Preliminary planning criteria include the following:

1. Multiple use is the primary function of BLM-administered public lands.

2. Areas to be addressed are the surface acres administered by the BLM in the Haines planning block.

3. Decisions will be limited to those related to recreation, wildlife, travel management, an ACEC and an SRMA.

4. Valid existing rights will be protected throughout the planning area.

5. Plans and policies of adjacent land owners/managers will be considered.

6. The BLM will encourage and participate in collaborative planning.

7. Identification, designation, and protection of an SRMA and an ACEC will receive full consideration.

8. The BLM will comply with all relevant laws, statutes, regulations, manuals, and handbooks.

9. Subsistence uses will be considered and adverse impacts minimized in accordance with Section 810 of ANILCA.

10. This resource management plan amendment will conform to the Bureau's H-1601-1 Land Use Planning Handbook.

11. The plan will be consistent with the Alaska Land Health Standards.

12. Areas of proposed ACEC designation will meet the criteria found in 43 CFR 1610.7-2.

The BLM will use an interdisciplinary approach while developing the plan to ensure consideration of the variety of resource issues and concerns identified.

Thomas P. Lonnie,
State Director.

[FR Doc. E9-6792 Filed 3-25-09; 8:45 am]

BILLING CODE 4310-JA-P